DEPARTMENT OF JUSTICE

Notice of Lodging of Consent Decree Under the Clean Water Act

Under 28 CFR 50.7, notice is hereby given that on June 18, 2008, a proposed Consent Decree (“Consent Decree”) in the matter of United States v. City of Shelton., Civil Action No. 3:08-cv-00919-SRU, was lodged with the United States District Court for the District of Connecticut.

In the complaint in this matter, the United States sought injunctive relief and civil penalties against the City of Shelton (“the City”) for claims arising under the Clean Water Act, in connection with the operation of the City's wastewater collection system as well as the City's wastewater treatment plant located on the Housatonic River. Under the Consent Decree, the City will perform necessary upgrades to comply with the Clean Water Act, and pay a civil penalty of $142,000, which will be divided equally between the United States and the State of Connecticut.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Shelton, D.J. Ref. No. 90-5-1-1-08406.

The Consent Decree may be examined at the Office of the United States Attorney, 450 Main Street, Hartford, Connecticut, 06103, and at U.S. EPA Region I, Robert F. Kennedy Federal Building, Boston, Massachusetts 02203-2211. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $8.00 (25 cents per page reproduction cost) payable to the U.S. Treasury, or, if by e-mail or fax, forward a check in that amount to the Consent Decree Library at the stated address.

Ronald G. Gluck,
Assistant Section Chief, Environmental Enforcement Section, Environment and Natural Resources Division.

[FR Doc. E8-14467 Filed 6-25-08; 8:45 am]

BILLING CODE 4410-15-P